DEPARTMENT OF HEALTH AND HUMAN SERVICES

Food and Drug Administration

[Docket Nos. FDA-2015-M-4474, FDA-2016-M-1915, FDA-2016-M-1837, FDA-2016-M-1916, FDA-2016-M-1914, FDA-2016-M-1917, FDA-2016-M-2182, FDA-2016-M-2183, FDA-2016-M-2184, FDA-2016-M-2185, FDA-2016-M-2332, FDA-2016-M-2334, FDA-2016-M-2333, FDA-2016-M-2485, FDA-2016-M-2498, FDA-2016-M-2499, FDA-2016-M-2500, FDA-2016-M-2649, FDA-2016-M-2650, FDA-2016-M-2651, FDA-2016-M-2735, FDA-2016-M-2974, FDA-2016-M-2971, FDA-2016-M-1972, FDA-2016-M-2973, FDA-2016-M-2975, FDA-2016-M-3430, FDA-2016-M-3431, FDA-2016-M-3913, FDA-2016-M-3653, FDA-2016-M-3914, FDA-2016-M-3915, FDA-2016-M-4046, FDA-2016-M-4344, FDA-2016-M-4458, FDA-2016-M-4459, FDA-2016-M-4483, FDA-2016-M-4657, FDA-2016-M-4530, FDA-2016-M-4653, FDA-2017-M-0180, FDA-2017-M-0181, FDA-2017-M-0229, FDA-2017-M-0560, FDA-2017-M-0831, FDA-2017-M-0661, FDA-2017-M-0971, FDA-2017-M-2652, FDA-2017-M-1121, FDA-2017-M-1122, FDA-2017-M-1228, FDA-2017-M-1845, FDA-2017-M-1227, FDA-2017-M-1713, FDA-2017-M-1714, FDA-2017-M-1950, FDA-2017-M-2594, FDA-2017-M-2766, FDA-2017-M-2767, FDA-2017-M-2768, FDA-2017-M-3103, FDA-2017-M-3200, FDA-2017-M-3430, FDA-2017-M-3579, FDA-2017-M-3580, FDA-2017-M-3778, FDA-2017-M-3839, FDA-2017-M-3928, FDA-2017-M-3982, FDA-2017-M-3990, and FDA-2017-M-3983]

Medical Devices; Availability of Safety and Effectiveness Summaries for Premarket Approval Applications

AGENCY: Food and Drug Administration, HHS.

ACTION: Notice.

SUMMARY: The Food and Drug Administration (FDA) is publishing a list of premarket approval applications (PMAs) that have been approved. This list is intended to inform the public of the availability of safety and effectiveness summaries of approved PMAs through the Internet and the Agency's Dockets Management Staff.

ADDRESSES: You may submit comments as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket Nos. FDA-2015-M-4474, FDA-2016-M-1915, FDA-2016-M-1837, FDA-2016-M-1916, FDA-2016-M-1914, FDA-2016-M-1917, FDA-2016-M-2182, FDA-2016-M-2183, FDA-2016-M-2184, FDA-2016-M-2185, FDA-2016-M-2332, FDA-2016-M-2334, FDA-2016-M-2333, FDA-2016-M-2485, FDA-2016-M-2498, FDA-2016-M-2499, FDA-2016-M-2500, FDA-2016-M-2649, FDA-2016-M-2650, FDA-2016-M-2651, FDA-2016-M-2735, FDA-2016-M-2974, FDA-2016-M-2971, FDA-2016-M-1972, FDA-2016-M-2973, FDA-2016-M-2975, FDA-2016-M-3430, FDA-2016-M-3431, FDA-2016-M-3913, FDA-2016-M-3653, FDA-2016-M-3914, FDA-2016-M-3915, FDA-2016-M-4046, FDA-2016-M-4344, FDA-2016-M-4458, FDA-2016-M-4459, FDA-2016-M-4483, FDA-2016-M-4657, FDA-2016-M-4530, FDA-2016-M-4653, FDA-2017-M-0180, FDA-2017-M-0181, FDA-2017-M-0229, FDA-2017-M-0560, FDA-2017-M-0831, FDA-2017-M-0661, FDA-2017-M-0971, FDA-2017-M-2652, FDA-2017-M-1121, FDA-2017-M-1122, FDA-2017-M-1228, FDA-2017-M-1845, FDA-2017-M-1227, FDA-2017-M-1713, FDA-2017-M-1714, FDA-2017-M-1950, FDA-2017-M-2594, FDA-2017-M-2766, FDA-2017-M-2767, FDA-2017-M-2768, FDA-2017-M-3103, FDA-2017-M-3200, FDA-2017-M-3430, FDA-2017-M-3579, FDA-2017-M-3580, FDA-2017-M-3778, FDA-2017-M-3839, FDA-2017-M-3928, FDA-2017-M-3982, FDA-2017-M-3990, and FDA-2017-M-3983 for “Medical Devices; Availability of Safety and Effectiveness Summaries for Premarket Approval Applications.” Received comments will be placed in the docket and, except for those submitted as “Confidential Submissions,” publicly viewable at https://www.regulations.gov or at the Dockets Management Staff between 9 a.m. and 4 p.m., Monday through Friday.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.gpo.gov/fdsys/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852.

FOR FURTHER INFORMATION CONTACT: Joshua Nipper, Center for Devices and Radiological Health, Food and Drug Administration, 10903 New Hampshire Ave., Bldg. 66, Rm. 1650, Silver Spring, MD 20993-0002, 301-796-6524.

SUPPLEMENTARY INFORMATION:

I. Background

In accordance with section 515(d)(4) and (e)(2) of the Federal Food, Drug, and Cosmetic Act (the FD&C Act) (21 U.S.C. 360e(d)(4) and (e)(2)), notification of an order approving, denying, or withdrawing approval of a PMA will continue to include a notice of opportunity to request review of the order under section 515(g) of the FD&C Act. The 30-day period for requesting reconsideration of an FDA action under § 10.33(b) (21 CFR 10.33(b)) for notices announcing approval of a PMA begins on the day the notice is placed on the internet. Section 10.33(b) provides that FDA may, for good cause, extend this 30-day period. Reconsideration of a denial or withdrawal of approval of a PMA may be sought only by the applicant; in these cases, the 30-day period will begin when the applicant is notified by FDA in writing of its decision.

The regulations provide that FDA publish a quarterly list of available safety and effectiveness summaries of PMA approvals and denials that were announced during that quarter. The following is a list of approved PMAs for which summaries of safety and effectiveness were placed on the internet from July 1, 2016, through June 30, 2017. There were no denial actions during this period. The list provides the manufacturer's name, the product's generic name or the trade name, and the approval date.

Table 1—List of Safety and Effectiveness Summaries for Approved PMAs Made Available From July 1, 2016 Through June 30, 2017
PMA No., Docket No. | Applicant | Trade name | Approval date
P130018, FDA-2015-M-4474 | Uromedica, Inc | ProACTTM Adjustable Continence Therapy for Men | 11/24/15
P140003/S004, FDA-2016-M-1915 | Abiomed, Inc | Impella Ventricular Support | 4/7/2016
P150034, FDA-2016-M-1837 | Revision Optics, Inc | Raindrop Near Vision Inlay | 6/29/2016
P150017, FDA-2016-M-1916 | Cartiva, Inc | Cartiva Synthetic Cartilage Implant | 7/1/2016
P150023, FDA-2016-M-1914 | Abbott Vascular | Absorb GT1TM Bioresorbable Vascular Scaffold (BVS) System | 7/5/2016
P100020/S017, FDA-2016-M-1917 | Roche Molecular Systems, Inc | cobas® HPV Test | 7/7/2016
P090029/S003, FDA-2016-M-2182 | Medtronic Sofamor Danek USA, Inc | Prestige LPTM Cervical Disc | 7/7/2016
P150038, FDA-2016-M-2183 | InSightec, Inc | ExAblate Model 4000 Type 1.0 System (ExAblate Neuro) | 7/11/2016
P980040/S065, FDA-2016-M-2184 | Abbott Medical Optics, Inc | TECNIS® Symfony Extended Range of Vision Intraocular Lens | 7/15/2016
P150006, FDA-2016-M-2185 | Vasorum, Ltd | Celt ACD Vascular Closure Device | 7/20/2016
P160004, FDA-2016-M-2332 | W.L. Gore & Associates, Inc | Gore TIGRIS Vascular Stent | 7/27/2016
P150003/S003, FDA-2016-M-2334 | Boston Scientific Corp | SYNERGYTM Everolimus-Eluting Platinum Chromium Coronary Stent System (Over-The-Wire & Monorail) | 7/29/2016
P150037, FDA-2016-M-2333 | Alcon Laboratories, Inc | CyPass® System (Model 241-S) | 7/29/2016
P150001, FDA-2016-M-2500 | Medtronic MiniMed | MiniMed 630G System with SmartGuard | 8/10/2016
P150036, FDA-2016-M-2485 | Edwards Lifesciences, LLC | Edwards INTUITY Elite Valve System | 8/12/2016
P130009/S057, FDA-2016-M-2498 | Edwards Lifesciences LLC | Edwards SAPIEN XT Transcatheter Heart Valve | 8/18/2016
P140031/S010, FDA-2016-M-2499 | Edwards Lifesciences LLC | Edwards SAPIEN 3 Transcatheter Heart Valve | 8/18/2016
P020045/S073, 2016-M-2649 | Medtronic, Inc | Freezor® Xtra Cardiac Cryoablation Catheter | 8/31/2016
P140010/S015, FDA-2016-M-2650 | Medtronic Vascular, Inc | In PactTM AdmiralTM Paclitaxel-Coated Percutaneous Transluminal Angioplasty Balloon Catheter | 9/7/2016
P160001, FDA-2016-M-2651 | Obalon Therapeutics, Inc | Obalon Balloon System | 9/8/2016
P150040, FDA-2016-M-2735 | Carl Zeiss Meditec, Inc | VisuMax® Femtosecond Laser | 9/13/2016
P000025/S084, FDA-2016-M-2974 | MED-EL Corp | MED-EL Cochlear Implant System | 9/15/2016
P150021, FDA-2016-M-2971 | Abbott Diabetes Care, Inc | Freestyle Libre Pro Flash Glucose Monitoring System | 9/23/2016
P080020/S020, FDA-2016-M-2975 | Seikagaku Corp | Gel-One® | 9/27/2016
P160017, FDA-2016-M-1972 | Medtronic MiniMed, Inc | MiniMed 670G System | 9/28/2016
P150044, FDA-2016-M-2973 | Roche Molecular Systems, Inc | cobas® EGFR Mutation Test v2 | 9/28/2016
P150030, FDA-2016-M-3430 | Smith & Nephew, Inc | R3TM delta Ceramic Acetabular System | 10/17/2016
P160006, FDA-2016-M-3431 | Ventana Medical Systems, Inc | VENTANA PD-L1 (SP142) Assay | 10/18/2016
P150013/S001, FDA-2016-M-3913 | Dako North America, Inc | PD-L1 IHC 22C3 pharmDX | 10/24/2016
P120021, FDA-2016-M-3653 | St. Jude Medical, Inc | AmplatzerTM PFO Occluder | 10/28/2016
P150043, FDA-2016-M-3914 | QView Medical, Inc | QVCAD System | 11/9/2016
P930016/S045, FDA-2016-M-3915 | AMO Manufacturing USA, LLC | Star S4 IR Excimer Laser System and iDesign Advanced WaveScan Studio | 11/14/2016
P020050/S023, FDA-2016-M-4046 | Alcon Laboratories, Inc | WaveLight® EX500 and ALLEGRETTO WAVE® EYE-Q Excimer Laser Systems | 11/21/2016
P140029, FDA-2016-M-4344 | Q-Med AB | Restylane® Refyne and Restylane® Defyne | 12/9/2016
P130007/S016, FDA-2016-M-4458 | Animas Corporation | OneTouch VibeTM Plus System | 12/16/2016
P160018, FDA-2016-M-4459 | Foundation Medicine, Inc | FoundationFocusTM CDxBRACA Assay | 12/19/2016
P120005/S041, FDA-2016-M-4483 | Dexcom, Inc | Dexcom G5 Mobile Continuous Glucose Monitoring System | 12/20/2016
P040020/S049, FDA-2016-M-4657 | Alcon Laboratories, Inc | Acrysof® IQ ReSTOR® +3.0 D Multifocal Toric Intraocular Lens | 12/22/2016
P160019, FDA-2016-M-4530 | Roche Diagnostics | Elecsys HBsAg II/Elecsys HBsAg Confirmatory Test/PreciControl HBsAg II | 12/23/2016
P100022/S020, FDA-2016-M-4653 | Cook Medical Inc | Zilver PTX Drug-Eluting Peripheral Stent | 12/28/2016
H070005, FDA-2017-M-0180 | AGA Medical Corp | AMPLATZERTM Post-Infarct Muscular VSD Occluder | 1/10/2017
P160031, FDA-2017-M-0181 | FUJIFILM Medical Systems U.S.A., Inc | ASPIRE Cristalle Digital Breast Tomosynthesis Option | 1/10/2017
P160008, FDA-2017-M-0229 | HeartSine Technologies LLC | HeartSine samaritan® SAM 350P, SAM 360P, and SAM 450P Public Access Automated External Defibrillators, Accessories and Saver EVO® Software Version 1.4.0 | 1/12/2017
P160021, FDA-2017-M-0560 | W.L. Gore & Associates, Inc | Gore® Viabahn® VBX Balloon Expandable Endoprosthesis | 1/27/2017
P130024/S009, FDA-2017-M-0831 | Lutonix, Inc | Lutonix® 035 Drug Coated Balloon PTA Catheter | 2/7/2017
P140033, FDA-2017-M-0661 | St. Jude Medical, Inc | MR Conditional Pacemaker System—Assurity MRITM and Endurity MRITM Pacemakers and Tendril MRITM 1200M LPA Lead | 1/31/2017
P160023, FDA-2017-M-0971 | Hologic, Inc | Aptima® HCV Quant Dx Assay | 2/13/2017
P160003, FDA-2016-M-2652 | Biotronik, Inc | PRO-Kinetic Energy Cobalt Chromium Coronary Stent System | 2/14/2017
P150039, FDA-2017-M-1121 | Tryton Medical, Inc | TRYTON Side Branch Stent | 2/21/2017
P160014, FDA-2017-M-1122 | CeloNova BioSciences, Inc | COBRA PzFTM NanoCoated Coronary Stent System | 2/21/2017
P100044/S023, FDA-2017-M-1228 | Intersect ENT | PROPEL® Contour Sinus Implant | 2/23/2017
P140017/S005, FDA-2017-M-1227 | Medtronic, Inc | MelodyTM Transcatheter Pulmonary Valve, EnsembleTM Transcatheter Valve Delivery System and EnsembleTM II Transcatheter Valve Delivery System | 2/24/2017
P160016, FDA-2017-M-1713 | Siemens Healthcare Diagnostics, Inc | VERSANT® HCV GENOTYPE 2.0 Assay (LiPA) | 3/14/2017
P110033/S020, FDA-2017-M-1714 | Allergan | Juvéderm VollureTM XC | 3/17/2017
P160025, FDA-2017-M-1845 | Biotronik, Inc | Astron Pulsar and Pulsar-18 Stent Systems | 3/23/2017
P160009, FDA-2017-M-1950 | iCAD, Inc | PowerLook® Tomo Detection Software | 3/24/2017
P160024, FDA-2017-M-2594 | Bard Peripheral Vascular, Inc | LifeStream Balloon Expandable Vascular Covered Stent | 4/24/2017
P160043, FDA-2017-M-2767 | Medtronic, Inc | Resolute Onyx Zotarolimus- Eluting Coronary Stent System | 4/28/2017
P160040, FDA-2017-M-2766 | Invivoscribe Technologies, Inc | LeukoStrat® CDx FLT3 Mutation Assay | 4/28/2017
P160046, FDA-2017-M-2768 | Ventana Medical Systems, Inc | VENTANA PD-L1 (SP263) Assay | 5/1/2017
H150003, FDA-2017-M-3103 | Wilson-Cook Medical, Inc | FlourishTM Pediatric Esophageal Atresia Device | 5/12/2017
P160044, FDA-2017-M-3200 | Abbott Molecular, Inc | Abbott RealTime CMV | 5/18/2017
P160041, FDA-2017-M-3430 | Roche Molecular Systems, Inc | cobas® CMV | 6/1/2017
P140031/S028, FDA-2017-M-3579 | Edwards Lifesciences LLC | Edwards SAPIEN 3TM Transcatheter Heart Valve and Accessories | 6/5/2017
P160035, FDA-2017-M-3580 | Berlin Heart, Inc | EXCOR® Pediatric Ventricular Assist Device | 6/6/2017
P160047, FDA-2017-M-3778 | AEGEA Medical, Inc | AEGEA Vapor SystemTM | 6/14/2017
H160002, FDA-2017-M-3839 | Pulsar Vascular, Inc | PulseRider® Aneurysm Neck Reconstruction Device (“PulseRider”) | 6/19/2017
P160045, FDA-2017-M-3928 | Life Technologies Corp | OncomineTM Dx Target Test | 6/22/2017
P150046, FDA-2017-M-3982 | SciBase AB | Nevisense | 6/28/2017
P150048, FDA-2017-M-3990 | Edwards Lifesciences, LLC | Edwards Pericardial Aortic Bioprosthesis and Edwards INSPIRIS RESILIA Aortic Valve | 6/29/2017
P160038, FDA-2017-M-3983 | Illumina, Inc | PraxisTM Extended RAS Panel | 6/29/2017

II. Electronic Access

Persons with access to the Internet may obtain the documents at https://www.fda.gov/MedicalDevices/ProductsandMedicalProcedures/DeviceApprovalsandClearances/PMAApprovals/default.htm.

Dated: September 12, 2017.
Anna K. Abram,
Deputy Commissioner for Policy, Planning, Legislation, and Analysis.

[FR Doc. 2017-20391 Filed 9-22-17; 8:45 am]

BILLING CODE 4164-01-P